DEPARTMENT OF THE INTERIOR

Bureau of Land Management

[LLWO3100000 L13100000 PB0000 241E; OMB Control Number 1004-0137]

Renewal of Approved Information Collection

AGENCY: Bureau of Land Management, Interior.

ACTION: 30-day notice and request for comments.

SUMMARY: The Bureau of Land Management (BLM) has submitted an information collection request to the Office of Management and Budget (OMB) to continue the collection of information from applicants who wish to participate in the exploration, development, production, and utilization of oil and gas operations on BLM-managed public lands. The Office of Management and Budget (OMB) has assigned control number 1004-0137 to this collection.

DATES: The OMB is required to respond to this information collection request within 60 days but may respond after 30 days. For maximum consideration, written comments should be received on or before November 14, 2014.

ADDRESSES: Please submit comments directly to the Desk Officer for the Department of the Interior (OMB # 1004-0137), Office of Management and Budget, Office of Information and Regulatory Affairs, fax 202-395-5806, or by electronic mail at OIRA_submission@omb.eop.gov. Please provide a copy of your comments to the BLM via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0137” regardless of the form of your comments.

FOR FURTHER INFORMATION CONTACT: Donnie Shaw, Division of Fluid Minerals, at 202-912-7155. Persons who use a telecommunication device for the deaf (TDD) may call the Federal Information Relay Service (FIRS) on 1-800-877-8339, to leave a message for Mr. Shaw. You may also review the information collection request online at http://www.reginfo.gov/public/do/PRAMain.

SUPPLEMENTARY INFORMATION: The Paperwork Reduction Act (44 U.S.C. 3501-3521) and OMB regulations at 5 CFR 1320 provide that an agency may not conduct or sponsor a collection of information unless it displays a currently valid OMB control number. Until the OMB approves a collection of information, you are not obligated to respond. In order to obtain and renew an OMB control number, Federal agencies are required to seek public comment on information collection and recordkeeping activities. (see 5 CFR 1320.8 (d) and 1320.12(a)).

As required at 5 CFR 1320.8(d), the BLM published a 60-day notice in the Federal Register on June 11, 2014 (79 FR 33592) and the comment period closed on August 11, 2014. The BLM received one public comment. The comment was a general invective about the Federal government, the Department of the Interior, the BLM, and Federal employees. It did not address, and was not germane to, this information collection. Therefore, we have not changed the collection in response to the comment.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB Control Number 1004-0137 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Onshore Oil and Gas Operations (43 CFR part 3160).

OMB Control Number: 1004-0137.

Type of Review: Extension of a currently approved information collection.

Abstract: Various Federal and Indian mineral leasing statutes authorize the BLM to grant and manage onshore oil and gas leases on Federal and Indian (except Osage Tribe) lands. In order to fulfill its responsibilities under these statutes, the BLM needs to perform the information collection activity set forth in the regulations at 43 CFR part 3160, and in onshore oil and gas orders promulgated in accordance with 43 CFR 3164.1.

Frequency of Collection: On occasion.

Forms:

• Form 3160-3, Application for Permit to Drill or Re-enter;

• Form 3160-4, Well Completion or Recompletion Report and Log; and

• Form 3160-5, Sundry Notices and Reports on Wells.

Estimated Annual Burden Hours: 920,464.

Estimated Annual Responses: 235,252.

Estimated Annual Non-hour Burden Cost: $32,500,000.

The estimated burdens are itemized in the following table:

A. Type of response | B. Number of responses | C. Hours per response | D. Total hours (column B × column C)
Application for Permit to Drill or Re-enter (43 CFR 3162.3-1) Form 3160-3 | 5,000 | 80 | 400,000
Well Completion or Recompletion Report and Log (43 CFR 3162.4-1) Form 3160-4 | 5,000 | 4 | 20,000
Sundry Notices and Reports on Wells (43 CFR 3162.3-2) Form 3160-5 | 35,000 | 8 | 280,000
Plan for Well Abandonment (43 CFR 3162.3-4) | 1,500 | 8 | 12,000
Schematic/Facility Diagrams (43 CFR 3162.4-1(a) and 3162.7-5(d)(1)) | 1,000 | 8 | 8,000
Drilling Tests, Logs, and Surveys (43 CFR 3162.4-2(a)) | 110 | 8 | 880
Disposal of Produced Water (43 CFR 3162.5-1(b), 3164.1, and Onshore Oil and Gas Order No. 7) | 1,500 | 8 | 12,000
Report of Spills, Discharges, or Other Undesirable Events (43 CFR 3162.5-1(c)) | 215 | 8 | 1,720
Contingency Plan (43 CFR 3162.5-1(d)) | 52 | 32 | 1,664
Horizontal and Directional Drilling (43 CFR 3162.5-2(b)) | 2,100 | 8 | 16,800
Well Markers (43 CFR 3162.6) | 1,000 | 8 | 8,000
Gas Flaring (43 CFR 3162.7-1(d), 3164.1, and Notice to Lessees 4A) | 120 | 16 | 1,920
Records for Seals (43 CFR 3162.7-5(b)) | 90,000 | 0.75 | 67,500
Site Security (43 CFR 3162.7-5(c)) | 2,500 | 8 | 20,000
Prepare Run Tickets (43 CFR 3162.7-2, 3164.1, and Onshore Oil and Gas Order No. 4) | 90,000 | 0.75 | 67,500
Application for Suspension or Other Relief (43 CFR 3165.1) | 100 | 16 | 1,600
State Director Review (43 CFR 3165.3(b)) | 55 | 16 | 880
Totals | 235,252 |  | 920,464

Jean Sonneman,
Bureau of Land Management, Information Collection Clearance Officer.

[FR Doc. 2014-24469 Filed 10-14-14; 8:45 am]

BILLING CODE 4310-84-P